DEPARTMENT OF TRANSPORTATION

Coast Guard

[USCG-2001-8662]

National Preparedness for Response Exercise Program (PREP)

AGENCY: Coast Guard, DOT.

ACTION: Request for comments on PREP triennial exercise schedule for 2001, 2002, and 2003.

SUMMARY: The Coast Guard, the Environmental Protection Agency (EPA), the Research and Special Programs Administration (RSPA) and the Minerals Management Service (MMS), in concert with the states, the oil industry and concerned citizens, developed the Preparedness for Response Exercise Program (PREP). This notice announces the PREP triennial cycle, 2001-2003, and requests comments from the public and maximum industry and government participation in the listed exercises.

DATES: Comments and related material must reach the Docket Management Facility on or before April 10, 2001.

ADDRESSES: To make sure your comments and related material are not entered twice in the docket, please submit them by only one of the following methods:

(1) By mail to the Docket Management Facility, (USCG-2001-8662), U.S. Department of Transportation, room PL-401, 400 Seventh Street SW., Washington, DC 20590-0001.

(2) By hand to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION CONTACT: For questions on this notice and general information regarding the PREP program and the schedule, contact Mr. Robert Pond, Office of Response, Plans and Preparedness Division (G-MOR-2), U.S. Coast Guard Headquarters, 2100 2nd St. SW., Washington, DC 20593-0001, telephone 202-267-6603, fax 202-267-4065 or e-mail rpond@comdt.uscg.mil. For questions on viewing, or submitting material to the docket, contact Ms. Dorothy Beard, Chief, Dockets, Department of Transportation, telephone 202-366-9329.

SUPPLEMENTARY INFORMATION: The PREP Area exercise schedule and exercise design manuals are available on the Internet at http://www.uscg.mil/hq/g-m/gmhome.htm (see index, then oil response). To obtain a hard copy of the exercise design manual, contact Ms. Melanie Barber at the Research and Special Programs Administration, Office of Pipeline Safety, at 202-366-4560. The 1994 PREP Guidelines can be found on the following web site: http://www.uscg.mil/hq/g-m/nmc/response/#PREP. Hard copies of the PREP Guidelines are available at no cost by writing or faxing the TASC Warehouse, 3341 Q 75th Avenue, Landover, MD 20785, fax: 301-386-5394. The stock number of the manual is USCG-X0191. Please indicate the quantity when ordering. Quantities are limited to 10 per order.

On August 29, 2000, a PREP workshop was held at the Department of Transportation Nassif Building. The workshop was used as a public forum to discuss the vitality of the PREP program. Participants, as well as all concerned individuals, were encouraged to submit comments in writing to the docket. The National Scheduling Coordinating Committee (NSCC) is in the process of developing responses to all comments submitted. These responses will be published in a future Federal Register notice.

Request for Comments

We encourage you to participate by submitting comments and related material. If you do so, please include your name and address, identify the docket number [USCG-2001-8662], indicate the specific section of the document to which each comment applies, and give the reason for each comment. You may submit your comments and materials by mail or hand delivery, submit them in an unbound format, no larger than 8½ by 11 inches, suitable for copying and electronic filing. If you submit them by mail and would like to know they reached the facility, please enclose a stamped, self addressed postcard or envelope. We will consider all comments and material received during the comment period.

Background and Purpose

The Coast Guard, EPA, RSPA, and MMS developed the National Preparedness for Response Exercise Program (PREP) to provide guidelines for compliance with the pollution response exercise requirements (33 U.S.C. 1321(j)). The guiding principles for PREP distinguish between internal and external exercises. Internal exercises are conducted within the plan holder's organization. External exercises extend beyond the plan holder's organization to involve other members of the response community. External exercises are separated into two categories: (1) Area exercises, designed to evaluate the entire response mechanism in a given area, and (2) Government-initiated unannounced exercises, to ensure adequate pollution response preparedness of an individual plan holder.

Since 1994, the USCG, EPA, RSPA, and MMS have published a triennial schedule of Area exercises. In short, the Area exercises involve the entire response community (Federal, State, local, and industry participants) and therefore, require more extensive planning than other oil spill response exercises. The PREP guidelines describe all of these exercises in more detail. This notice announces the next triennial schedule of Area exercises.

Not all industry leads have been identified at this time. Industry plan holders are encouraged to take advantage of this opportunity to exercise with the entire response community and to coordinate their regularly scheduled spill management team and equipment deployment exercises with the Area Committees.

Companies interested in participating in an Area exercise may call either the Coast Guard office or the EPA On-Scene Coordinator (OSC) where the exercise is scheduled. Alternatively, the companies interested in participating in an exercise, where the Coast Guard is the OSC, may call Mr. Pond at 202-267-6603, and he will facilitate scheduling.

The following is the PREP schedule for calendar Years 2001, 2002, and 2003.

PREP Schedule—Government-Led Area Exercises
Area | Agency | Plan holder | Date/qtr ¹
Calendar Year 2001
Saulte St. Marie (MSO Saulte St. Marie) | CG |  | 30 Apr-02 May.
NY, NY (Act NY) | CG |  | 04 Jun-08 Jun.
SW LA/SE TX (MSO Morgan City, MSO Port Arthur) | CG | SONS Phase I | Sep.
EPA Region I | EPA |  | To Be Determined.
Chicago Area (MSO Chicago) | CG |  | 24 Sep-28 Sep.
Maryland Coastal (Act Baltimore) | CG |  | 10 Dec-14 Dec.
Calendar Year 2002
South FL (MSO Miami) | CG |  | 25 Feb-01 Mar.
SW LA/SE TX (MSO Morgan City, MSO Port Arthur) | CG | SONS Phase II | Spring 2002.
Boston (MSO Boston) | CG |  | 17 Jun-21 Jun.
Hawaii/Samoa (MSO Honolulu) | CG |  | 22 Jul-26 Jul.
Central CA Coast (MSO San Francisco) | CG |  | 16 Sep-20 Sep.
EPA Region VII | EPA |  | To Be Determined.
Calendar Year 2003
Marianna Islands (MSO Guam) | CG |  | 1
EPA Region II | EPA |  | 1
Philadelphia (MSO Philadelphia) | CG |  | 2
SE Alaska (MSO Juneau) | CG |  | 3
Savannah (MSO Savannah) | CG |  | 4
Florida Panhandle (MSO Mobile) | CG |  | 4

Prep Schedule—Industry-Led Exercises
Area | Plan holder ² | Date ¹
Calendar Year 2001
Guam (MSO Guam) | v | 1
Charleston (MSO Charleston) | f (mtr) | 1
Southern Coastal NC (MSO Wilmington) | v | 1
EPA Region VII | f (nonmtr) | 2
Long Island Sound (MSO Long Island Sound) | f | 2
EPA Region V | f | 2
San Francisco Bay (MSO San Francisco) | f (mtr) | 3
Duluth-Superior (MSO Duluth) | f | 3
South TX Coastal Zone (MSO Corpus Christi) | v | 3
Prince William Sound (MSO Valdez) | p | 3
LA/LB (MSO LA/LB) | v | 4
San Diego (MSO San Diego) | f | 4
Calendar Year 2002
Tampa (MSO Tampa) | v | 1
Northwest (MSO Puget Sound) | v | 1
South LA/LB (MSO LA/LB) | f (mtr) | 1
EPA Oceania | f (nonmtr) | 1
EPA Region II | p | 2
Eastern Wisconsin (MSO Milwaukee) | v | 2
Eastern Great Lakes (MSO Buffalo) | f (mtr) | 3
Maine/New Hampshire (MSO Portland) | v | 3
Providence (MSO Providence) | v | 3
EPA Region VI | f (nonmtr) | 4
Virginia Coastal (MSO Hampton Roads) | f (mtr) | 4
Houston/Galveston (MSO Houston/Galveston) | p | 4
Alabama/Mississippi (MSO Mobile) | f | 4
Calendar Year 2003
EPA Region IX | p | 1
North Coast Area (MSO San Francisco) | f (mtr) | 1
New Orleans (MSO New Orleans) | p | 2
W Lake Erie (MSO Toledo) | f (nonmtr) | 2
EPA Region IV | f (nonmtr) | 2
Northwest Area (MSO Portland) | v | 3
Cleveland (MSO Cleveland) | f (mtr) | 3
Detroit (MSO Detroit) | v | 3
Caribbean Area (MSO San Juan) | v | 4
EPA Region III | f (nonmtr) | 4
Jacksonville (MSO Jacksonville) | v | 4
¹ Quarters: 1 (Jan-Mar); 2 (Apr-Jun); 3 (Jul-Sep); 4 (Oct-Dec). Note also exercise areas and dates are fixed. For 2001 and 2002 Government led area exercises are fixed, the actual quarter in which a listed area will be exercised is subject to projections in each of those areas as the exercise year approaches.
² Industry: v-Vessel; f (mtr)-marine transportation-related facility; f (nonmtr)-marine non-transportation related facility; p-pipeline.

Dated: January 31, 2001.
Howard L. Hime,
Acting Director of Standards, Marine Safety and Environmental Protection.

[FR Doc. 01-3372 Filed 2-8-01; 8:45 am]

BILLING CODE 4910-15-U